EXECUTIVE OFFICE OF THE PRESIDENT

Office of National Drug Control Policy

Designation of County as High Intensity Drug Trafficking Area

AGENCY: Office of National Drug Control Policy.

ACTION: Notice of HIDTA designation.

SUMMARY: The Director of the Office of National Drug Control Policy designated 1 additional county as a High Intensity Drug Trafficking Area (HIDTA) pursuant to 21 U.S.C. 1706. The new county is New Castle County, Delaware as part of the Philadelphia/Camden HIDTA.

FOR FURTHER INFORMATION CONTACT: Questions regarding this notice should be directed to Michael K. Gottlieb, National HIDTA Program Director, Office of National Drug Control Policy, Executive Office of the President, Washington, DC 20503; (202) 395-4868.

Submitted: March 19, 2015.

Dated: January 5, 2015.
Daniel Rader,
Deputy General Counsel.

[FR Doc. 2015-06771 Filed 3-24-15; 8:45 a.m.]

BILLING CODE 3280-F5-P